NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (#13883) meeting (Teleconference).

Date and Time: October 23, 2017; 3:00 p.m.-4:00 p.m. EDT.

Place: National Science Foundation, 2415 Eisenhower Avenue, Alexandria, VA 22314 (Teleconference).

Type of Meeting: Open.

http://www.nsf.gov/mps/ast/aaac.jsp

To join via Browser:

https://bluejeans.com/996692403/browser

To join via phone:

(1) Dial:

+1.408.740.7256

+1.888.240.2560

+1.408.317.9253

(see all numbers— http://bluejeans.com/numbers)

(2) Enter Conference ID: 996692403

Contact Person: Dr. Christopher Davis, Program Director, Division of Astronomical Sciences, Suite W9136, National Science Foundation, 2415 Eisenhower Avenue, Alexandria, VA 22314; Telephone: 703-292-7165.

Purpose of Meeting: The AAAC commissioned a subcommittee to develop a concept for implementing a ground-based Cosmic Microwave Background Stage 4 experiment. The Conceptual Design Team (CDT) will take as input the community CMB-S4 Science Book and any further community information as appropriate, will consider the global landscape of CMB experiments, and provide a project strawman concept with options and alternatives. The purpose of the meeting is to discuss and accept the subcommittee report.

Agenda: To discuss and accept the CMB Stage 4 CDT Task Force Report on behalf of NSF and DOE.

Dated: September 27, 2017.
Crystal Robinson,
Committee Management Officer.

[FR Doc. 2017-21125 Filed 10-2-17; 8:45 am]

BILLING CODE 7555-01-P